DEPARTMENT OF TRANSPORTATION

Federal Aviation Administration

Approval of Noise Compatibility Program for Flagstaff Pulliam Airport, Flagstaff, AZ

AGENCY: Federal Aviation Administration, DOT.

ACTION: Notice.

SUMMARY: The Federal Aviation Administration (FAA) announces its findings on the noise compatibility program submitted by the City of Flagstaff under the provisions of Title I of the Aviation Safety and Noise Abatement Act, as amended, (Pub. L. 96-193) (hereinafter referred to as “the Act”) and 14 CFR part 150. These findings are made in recognition of the description of Federal and nonfederal responsibilities in Senate Report No. 96-52 (1980). On April 7, 2005, the FAA determined that the noise exposure maps submitted by the City of Flagstaff under part 150 were in compliance with applicable requirements.

EFFECTIVE DATES: The effective date of the FAA's approval of the Noise Compatibility Program for Flagstaff Pulliam Airport is June 25, 2007.

FOR FURTHER INFORMATION CONTACT: Michelle Simmons, Environmental Protection Specialist, Los Angeles Airports District Office, Airports Division, Western-Pacific Region, Federal Aviation Administration, mailing address: P.O. Box 92007, Los Angeles, California, 90009-2007; Telephone: 310/725-3614. Documents reflecting this FAA action may be reviewed at this same location.

SUPPLEMENTARY INFORMATION: This notice announces that the FAA has given its overall approval to the Noise Compatibility Program for Flagstaff Pulliam Airport, effective June 25, 2007. Under section 104(a) of the Aviation Safety and Noise Abatement Act of 1979, as amended (herein after referred to as the “Act”) [recodified as 49 U.S.C. 47504], as airport operator who has previously submitted as Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The Noise Compatibility Program was developed in accordance with the provisions and procedures of FAR Part 150;

b. Program measures are reasonably consistent with achieving the goals of reducing existing non-compatible land uses around in airport and preventing the introduction of additional non-compatible land uses;

c. Program measurs would not create an undue burden on interstate or foreign commerce, unjustly discriminate against types or classes or aeronatucial uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitation with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where federal funding is sought, requests for project grants must be submitted to the FAA Airports District Office in Hawthorne, California.

The City of Flagstaff submitted to the FAA on July 21, 2004, the Noise Exposure Maps, descriptions, and other documentation produced during the noise compatibility planning study conducted from March 4, 2004 through January 12, 2007. The Flagstaff Pulliam Airport Noise Exposure Maps were determined by FAA to be in compliance with applicable requirements on April 7, 2005. Notice of this determination was published in the Federal Register on April 20, 2005.

The Flagstaff Pulliam Airport study contains a proposed noise compatibility program comprised of actions designed for phased implementation by airport management and adjacent jurisdictions from May 7, 2007 to beyond the year 2012. It was requested that the FAA evaluate and approve this material as a Noise Compatibility Program as described in 49 U.S.C. 47504 (formerly Section 104(b) of the Act). The FAA began its review of the program on January 12, 2007, and was required by a provision of the Act to approve or disapprove the program within 180 days (other than the use of new or modified flight procedures for noise control). Failure to approve or disapprove such program within the 180-day period shall be deemed to be an approval of such program.

The submitted program contained 15 proposed actions for noise abatement, noise mitigation, and land use planning and program management on and off the airport. The FAA completed its review and determined that the procedural and substantive requirements of the Act and FAR Part 150 have been satisfied. The overall program was approved by the Manager of the Airports Division, Western-Pacific Region, effective June 25, 2007.

Outright approval was granted for ten (10) specific program measures. The four (4) approved Noise Abatement Element measures included such items as: Runway 21 Departure Procedure for piston aircraft weighing less than 12,500 pounds; discontinue intersection and midfield takeoffs; Promote use of Industry Standard Thrust Cut-Back Procedures; Promote use of aircraft Owners and Pilots Association (AOPA) Noise Awareness Steps by light single and twin-engine aircraft;

The three (3) approved Land Use Planning Elements include such items as: The city of Flagstaff should consider revising their current project review guidelines to incorporate noise-related criteria. it would also be suitable to include these guidelines within the Flagstaff Regional Area Land Use and Transportation Plan; the city of Flagstaff and Coconino County should consider revising its existing Airport Overlay District to reflect the results of the noise analysis conducted as part of this Part 150 Study. Additionally, Coconino County should consider enacting an Airport overlay district for areas contained within the AIA; the City of Flagstaff and Coconino County should consider amending their respective building codes to incorporate prescriptive noise standards;

The three (3) approved Program Management Element measures included such items as: Publish a pilot guide; Monitor Implementation of the Part 150 Noise compatibility Program; Update Noise Exposure Maps and Noise Compatibility Program.

FAA partially approved portions of the following four (4) Land Use Planning Measures: Consideration should be given to re-designated undeveloped parcels within the hybrid 60 DNL noise contour to a compatible land use designation such as commercial, industrial, or designated open space as detailed in the Flagstaff Area Regional Land Use and Transportation Plan. That portion of the “hybrid” contour that depicts noise from a 1991 airport master plan is disapproved for purposes of part 150; Consideration should be given to incorporating hybrid 60 and 65 DNL noise contours into the general plan in lieu of the currently referenced noise contours prepared in the Flagstaff Area Regional Land Use and Transportation Plan; The City of Flagstaff and Coconino County maintain compatibility—zoned areas within the 60 DNL noise contour; That portion of the “hybrid” contour that depicts noise from a 1991 airport master plan is disapproved for purposes of part 150; The City of Flagstaff and Coconino County should rezone undeveloped parcels within the hybrid 60 DNL noise contour to a compatible zoning designation; That portion of the “hybrid” contour that depicts noise from a 1991 airport master plan is disapproved for purposes of part 150;

The FAA disapproved one (1) Noise Abatement measure: Change Phoenix Sectional Chart to depict the location of Walnut Canyon National Monument.

These determinations are set forth in detail in the Record of Approval signed by the Manager of the Airports Division, Western-Pacific Region, on June 25, 2007. The Record of Approval, as well as other evaluation materials and the documents comprising the submittal, are available for review at the FAA office listed above and at the administrative offices of the Flagstaff Pulliam Airport. The Record of Approval also will be available on-line at: http://www.faa.gov/airports_airtraffic/airports/environmental/airport_noise/part_150/states/.

Issued in Hawthorne, California on July 10, 2007.
Mia Paredes Ratcliff,
Acting Manager, Airports Division, Western-Pacific Region, AWP-600.

[FR Doc. 07-3609 Filed 7-23-07; 8:45 am]

BILLING CODE 4910-13-M